DEPARTMENT OF JUSTICE

[OMB Number 1122-NEW]

Agency Information Collection Activities; Proposed eCollection eComments Requested

AGENCY: Office on Violence Against Women, Department of Justice.

ACTION: 60-Day notice.

SUMMARY: The Department of Justice, Office on Violence Against Women (OVW) will be submitting the following information collection request to the Office of Management and Budget (OMB) for review and approval in accordance with the Paperwork Reduction Act of 1995.

DATES: Comments are encouraged and will be accepted for 60 days until June 10, 2019.

FOR FURTHER INFORMATION CONTACT: Written comments and/or suggestion regarding the items contained in this notice, especially the estimated public burden and associated response time, should be directed to Cathy Poston, Office on Violence Against Women, at 202-514-5430 or Catherine.poston@usdoj.gov.

SUPPLEMENTARY INFORMATION: Written comments and suggestions from the public and affected agencies concerning the proposed collection of information are encouraged. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: New collection.

(2) Title of the Form/Collection: Survey of VAWA-funded Discretionary Grantees about Program Evaluation Practices and Results.

(3) Agency form number, if any, and the applicable component of the Department of Justice sponsoring the collection: 1122-XXXX.

Sponsoring agency: U.S. Department of Justice, Office on Violence Against Women, which has supplied grant funds to the Violence Against Women Act Measuring Effectiveness Initiative (VAWA MEI) for Ongoing Training and Technical Assistance to Support Grantee Reporting for a project of which the proposed survey is one component.

(4) Affected public who will be asked or required to respond, as well as a brief abstract: 3,500 staff of federal discretionary grant-funded entities.

Established in 1995, OVW administers financial and technical assistance to communities across the country that are developing programs, policies, and practices that combat domestic/dating violence, sexual assault, and stalking. OVW administers both formula-based and discretionary (i.e., competitively awarded) grant programs, established under the Violence Against Women Act (VAWA) and subsequent legislation. Recipients of OVW funds work through a coordinated community response to support victims and hold perpetrators accountable.

OVW is implementing a new effort to better measure the effectiveness of VAWA-funded grant projects. A critical step in that effort is to understand how grantees evaluate their approaches to—and identify promising practices for—serving victims of domestic/sexual violence and administering justice in their cases. Therefore, the purpose of this collection is to find out if VAWA-funded discretionary grantees have conducted, or are currently conducting, evaluations of their programs and what the results of those evaluations were. This information will assist OVW and VAWA MEI in enhancing OVW's grantee performance monitoring system. OVW's current system collects a large quantity of data, not all of which is optimally useful for monitoring VAWA-funded projects and gauging grantees' success. A survey to understand how grantees themselves assess their effectiveness will help OVW understand which practices are showing promise in the field, and it will help OVW determine how performance reporting requirements could be revised to better capture indicators of success and reduce reporting burden on grantees.

The affected public includes the OVW award points-of-contact from the approximately 2,000 VAWA-funded discretionary grantees nationwide.

Because grantee points-of-contact are responsible for fiscal and programmatic oversight of how their grant dollars are used, they typically will have knowledge of whether their programs have conducted any evaluations of their programs' implementation or the outcomes of their programs for the people and communities they serve. If points-of-contact have not been directly responsible for evaluation efforts, they are likely to know who within their organization may have managed evaluations. Therefore, these points-of-contact are a key source of information from the field about strategies that are showing promise for keeping victims safe and holding offenders accountable.

(5) An estimate of the total number of respondents and the amount of time estimated for an average respondent to respond/reply: It is estimated that it will take less than 30 minutes to complete this one-time survey, which will ask respondents about any efforts to evaluate their programs, and the results of those evaluations. The survey will be a mix of multiple-choice and narrative response questions.

(6) An estimate of the total public burden (in hours) associated with the collection: The total hour burden of this one-time data collection could be up to 1,000 hours. A point-of-contact from every VAWA-funded discretionary grantees will be invited, but not required, to respond. ~2000 discretionary grantees * 30-minute completion time = 60,000 minutes, or 1,000 hours.

If additional information is required contact: Melody Braswell, Deputy Clearance Officer, United States Department of Justice, Justice Management Division, Policy and Planning Staff, Two Constitution Square, 145 N Street NE, 3E, 405B, Washington, DC 20530.

Dated: April 5, 2019.
Melody Braswell,
Department Clearance Officer, PRA, U.S. Department of Justice.

[FR Doc. 2019-07058 Filed 4-9-19; 8:45 am]

BILLING CODE 4410-FX-P